DEPARTMENT OF TRANSPORTATION

Office of the Secretary

[Docket OST-2005-22935]

Application of Mokulele Flight Service, Inc. for Certificate Authority

AGENCY: Department of Transportation.

ACTION: Notice of order to show cause (Order 2006-6-34).

SUMMARY: The Department of Transportation is directing all interested persons to show cause why it should not issue an order finding Mokulele Flight Service, Inc., fit, willing, and able, and awarding it a certificate of public convenience and necessity to engage in interstate scheduled air transportation of persons, property and mail.

DATES: Persons wishing to file objections should do so no later than July 11, 2006.

ADDRESSES: Objections and answers to objections should be filed in Docket OST-2005-22935 and addressed to U.S. Department of Transportation, Docket Operations, (M-30, Room PL-401), 400 Seventh Street, SW., Washington, DC 20590, and should be served upon the parties listed in Attachment A to the order.

FOR FURTHER INFORMATION CONTACT: Vanessa R. Balgobin, Air Carrier Fitness Division (X-56, Room 6401), U.S. Department of Transportation, 400 Seventh Street, SW., Washington, DC 20590, (202) 366-9721.

Dated: June 27, 2006.
Michael W. Reynolds,
Acting Assistant Secretary for Aviation and International Affairs.

[FR Doc. E6-10390 Filed 6-30-06; 8:45 am]

BILLING CODE 4910-9X-P